RAILROAD RETIREMENT BOARD

Sunshine Act: Notice of Public Meeting

Notice is hereby given that the Railroad Retirement Board will hold a meeting on July 17, 2018, 10:00 a.m. at the Board's meeting room on the 8th Floor of its headquarters building, 844 North Rush Street, Chicago, Illinois 60611. The agenda for this meeting follows:

Portion open to the public:

(1) Executive Committee Reports.

The person to contact for more information is Martha Rico-Parra, Secretary to the Board, Phone No. 312-751-4920.

For the Board.
Dated: June 28, 2018.
Martha Rico-Parra,
Secretary to the Board.

[FR Doc. 2018-14258 Filed 6-28-18; 4:15 pm]

BILLING CODE 7905-01-P